DEPARTMENT OF ENERGY

Federal Energy Regulatory Commission

[Project Nos. 14803-001 and P-2082-063]

Klamath River Renewal Corporation PacifiCorp; Notice of Intent To Prepare An Environmental Impact Statement for the Proposed Lower Klamath Project Surrender and Removal, Request for Comments on Environmental Issues, Schedule for Environmental Review, and Notice of Public Virtual Scoping Sessions

On November 17, 2020, and supplemented on February 26, and March 22, 2021, the Klamath River Renewal Corporation (Renewal Corporation) and PacifiCorp (applicants) filed an amended application for surrender of license and removal of project works for the Lower Klamath Hydroelectric Project No. 14803. The staff of the Federal Energy Regulatory Commission (FERC or Commission) will prepare an environmental impact statement (EIS) that will discuss the environmental impacts of the proposed surrender and removal of the Lower Klamath Project No. 14803 located on the Klamath River in Klamath County, Oregon, and Siskiyou County, California. The Commission will use this EIS in its decision-making process to identify potential adverse and beneficial impacts of the proposed project surrender and reasonable alternatives.¹

¹ On July 16, 2020, the Council on Environmental Quality (CEQ) issued a final rule, Update to the Regulations Implementing the Procedural Provisions of the National Environmental Policy Act (Final Rule, 85 FR 43,304), which was effective as of September 14, 2020. Accordingly, this EIS will be prepared pursuant to the Final rule.

This notice initiates the start of a scoping process the Commission will use to gather input from the public and interested agencies about issues regarding the project. As part of the National Environmental Policy Act (NEPA) review process, the Commission takes into account concerns the public may have about proposals and the environmental impacts that could result from its action. This process is referred to as “scoping.” The main goal of the scoping process is to focus the analysis in the EIS on the important environmental issues. Additional information about the Commission's NEPA process is described below in the NEPA Process and the EIS section of this notice.

By this notice, the Commission staff requests public comments on the scope of issues to address in the EIS. Specifically, we request comments on potential alternatives and impacts, as well as identification of any relevant information, studies, or analyses of any kind concerning impacts affecting the quality of the human environment. To ensure that your comments are timely and properly recorded, please submit your comments within 30 days of the first scoping meeting, i.e., by August 19, 2021. Comments may be submitted in written or oral form. Further details on how to submit comments are provided in the Public Participation section of this notice.

Public Participation

There are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (Project No. 14803-001 and P-2082-063) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

(4) Virtual Scoping Sessions: In lieu of sending written comments, the Commission invites you to attend one of the virtual scoping sessions its staff will conduct by telephone, scheduled as follows:

Date and Time

For Federal and state resource agencies, Tuesday, July 20, 2021, 9:00 a.m.-12:00 p.m. Pacific Time, Call in number: 888-604-9359, Participant passcode: 8998724

For all others including the general public, Tuesday, July 20, 2021, 6:00-9:00 p.m. Pacific Time, Call in number: 888-604-9359, Participant passcode: 8998724

For all others including the general public, Wednesday, July 21, 2021, 6:00-9:00 p.m. Pacific Time, Call in number: 888-604-9359, Participant passcode: 8998724

For all others including the general public, Thursday, July 22, 2021, 6:00-9:00 p.m. Pacific Time, Call in number: 888-604-9359, Participant passcode: 8998724

The primary goal of these scoping sessions is to seek input on the specific environmental issues and concerns that should be considered in the EIS. Individual oral comments will be taken on a one-on-one basis with a court reporter on the line. This format is designed to receive the maximum amount of oral comments, in a convenient way during the timeframe allotted and in response to the ongoing COVID-19 pandemic.

Each scoping session for the general public is scheduled from 6:00 p.m. to 9:00 p.m. Pacific Time. You may call any time during that period. You will initially be placed on mute and hold. Calls will be answered in the order they are received. Once answered, you will have the opportunity to provide your comments directly to a court reporter. FERC staff or a representative may also be present on the line. A time limit of three minutes will be implemented for each commentor.

There will be a short introduction by Commission staff and the Renewal Corporation when each session opens. Please see appendix 1 for additional information on the session format and conduct.²

² The appendix referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Transcripts of all comments received during the scoping sessions will be publicly available on FERC's eLibrary system (see the last page of this notice for instructions on using eLibrary).

It is important to note that the Commission provides equal consideration to all comments received, whether filed in written form or provided orally at a virtual scoping session.

Additionally, the Commission offers a free service called eSubscription which makes it easy to stay informed of all issuances and submittals regarding the dockets/projects to which you subscribe. These instant email notifications are the fastest way to receive notification and provide a link to the document files which can reduce the amount of time you spend researching proceedings. Go to https://www.ferc.gov/ferc-online/overview to register for eSubscription.

Summary of the Proposed Surrender

The 163-megawatt Lower Klamath Project is located on the Klamath River and consists of 4 developments: J.C. Boyle, Copco No. 1, Copco No. 2, and Iron Gate. The J.C. Boyle Development is located in Klamath County, Oregon, while the Copco No. 1, Copco No. 2, and Iron Gate developments are located in Siskiyou County, California.

On November 17, 2020, and supplemented on February 26, and March 22, 2021,³ the Renewal Corporation and PacifiCorp filed an amended application to surrender the license and decommission the Lower Klamath Project. The purpose and need for the proposed action is to surrender the project license and remove the project features to achieve a free-flowing condition and volitional fish passage, site remediation, and restoration.

³ The original application was originally filed on September 23, 2016, with a number of supplements following this initial filing.

Decommissioning activities would include the removal of the J.C. Boyle Dam and Powerhouse, Copco No. 1 Dam and Powerhouse, Copco No. 2 Dam and Powerhouse, and Iron Gate Dam and Powerhouse, as well as associated features. Associated features vary by development, but generally include powerhouse intake structures, embankments, sidewalls, penstocks and supports, decks, piers, gatehouses, fish ladders and holding facilities, pipes and pipe cradles, spillway gates and structures, diversion control structures, aprons, sills, tailrace channels, footbridges, powerhouse equipment, distribution lines, transmission lines, switchyards, original cofferdams, portions of the Iron Gate Fish Hatchery, residential facilities, and warehouses. Facility removal, as proposed, would be completed within an approximately 20-month period.

To implement the surrender, the Renewal Corporation proposes to: (1) Draw down the four reservoirs; (2) remove the dams and associated facilities; (3) restore lands currently occupied by the dams, reservoirs, and other facilities; and (4) minimize adverse effects on environmental resources. The Renewal Corporation proposes to implement a number of management plans, which were filed on February 26, 2021.

The NEPA Process and the EIS

The EIS issued by the Commission will discuss impacts that could occur as a result of the proposed surrender and removal of the project under the following general resource areas:

• Geology and soils

• water quantity

• water quality

• aquatic resources

• terrestrial resources

• threatened and endangered species

• recreation

• land use

• aesthetic resources

• socioeconomics

• cultural resources

• air quality, noise, and greenhouse gas emissions

• developmental resources

Your comments will help Commission staff identify and focus on the issues that might have an effect on the human environment and potentially eliminate others from further study and discussion in the EIS.

The EIS will present Commission staff's independent analysis of the issues. Staff will prepare a draft EIS which will be issued for public comment. Commission staff will consider all timely comments received during the comment period on the draft EIS and revise the document, as necessary, before issuing a final EIS. The draft and final EIS will be available in electronic format in the public record through eLibrary. If eSubscribed, you will receive email notification when environmental documents are issued.

Expected Impacts

Commission staff have identified several potential environmental issues for the following resources based on a preliminary review of the application and comments received in response to the Commission's December 16, 2021 notice. This preliminary list of issues may change based on your comments and our analysis:

• Water quality

• sediment-related impacts

• species listed for protection under the Endangered Species Act

• historic and cultural impacts

• fire suppression

• private wells

• property values

• construction-related impacts

A detailed description of potential effects is included in our Scoping Document 1.

Alternatives Under Consideration

As part of our review in the EIS, the Commission will consider all reasonable alternatives, which include: Alternatives that are technically and economically feasible; meet the purpose and need for the proposed action; and meet the goals of the applicant.⁴ Alternatives that do not meet these requirements will be summarized and dismissed from further consideration in the EIS. Staff will also consider the no-action alternative. Currently, we are considering one alternative to the proposed action that potentially meets the above criteria: The applicants' proposed action with staff modifications.

⁴ 40 CFR 1508.1(z).

The alternatives we are considering may be expanded based on the comments we receive, provided they meet the required criteria. With this notice, we ask commenters to identify other potential alternatives for consideration.

Schedule for Environmental Review

This scoping notice identifies the FERC staff's planned schedule for completion of the draft and final EIS for the Project.

Issuance of Notice of Availability of the draft EIS—February 2022.

Issuance of Notice of Availability of the final EIS—September 2022.

If a schedule change becomes necessary for the final EIS, an additional notice will be provided so that the relevant agencies are kept informed of the Project's progress. After the final EIS is issued, the Commission will make a decision on the proposal.

Permits and Authorizations Required

The table below lists the permits and authorizations that are anticipated to be required for the Project. We note that this list may not be all-inclusive and does not preclude any required permits or authorizations if it is not listed here.

Clean Water Act Section 401 Water Quality Certification—Oregon | Clean Water Act Section 401 Water Quality Certification—California.
Clean Water Act Section 404 Permit—Army Corps of Engineers | State of Oregon Removal—Fill Permit.
Endangered Species Act Section 7 Consultation—Fish and Wildlife Service and the National Marine Fisheries Service |

Cooperating Agencies

With this notice, the Commission is asking agencies with jurisdiction by law and/or special expertise with respect to the environmental issues of this project to formally cooperate in the preparation of the EIS.⁵ Agencies that would like to request cooperating agency status should follow the instructions for filing comments provided under the Public Participation section of this notice. Currently, the U.S. Army Corps of Engineers and the Environmental Protection Agency have requested to participate as cooperating agencies in the preparation of the EIS.

⁵ See 40 CFR 1501.8.

Additional Information

Additional information about the project is available on the FERC website at www.ferc.gov using the eLibrary link. Click on the eLibrary link, click on “General Search” and enter the docket number in the “Docket Number” field, excluding the last three digits (i.e., P-14803 and P-2082). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

If you have further questions you may also contact Diana Shannon at diana.shannon@ferc.gov, or 202-502-6136.

Dated: June 17, 2021.
Kimberly D. Bose,
Secretary.

[FR Doc. 2021-13301 Filed 6-23-21; 8:45 am]

BILLING CODE 6717-01-P